DEPARTMENT OF COMMERCE

International Trade Administration

A-570-867

Notice of Extension of Time Limit for the Final Results of the Antidumping Duty Administrative Review: Automotive Replacement Glass Windshields from the People's Republic of China

AGENCY: Import Administration, International Trade Administration, Department of Commerce.

EFFECTIVE DATE: September 29, 2004.

SUMMARY: The Department of Commerce (“the Department”) is extending the time limit for the final results of the administrative review of the antidumping duty order on automotive replacement glass windshields from the People's Republic of China. This review covers the period September 19, 2001, through March 31, 2003.

FOR FURTHER INFORMATION CONTACT: Robert Bolling or Jon Freed, AD/CVD Operations, Import Administration, International Trade Administration, U.S. Department of Commerce, 14th Street and Constitution Avenue, NW, Washington DC 20230; telephone: (202) 482-3434 and (202) 482-3818, respectively.

SUPPLEMENTARY INFORMATION:

Background

On May 7, 2004, the Department published the preliminary results of the administrative review of the antidumping duty order on ARG windshields from the PRC. See Automotive Replacement Glass Windshields from the People's Republic of China: Preliminary Results of Antidumping Duty Administrative Review, 69 FR 25545 (May 7, 2004). On August 9, 2004, the Department published a notice extending the time limit for the final results of this administrative review by thirty days until no later than October 4, 2004. See Notice of Extension of Time Limit for the Final Results of the Antidumping Duty Administrative Review: Automotive Replacement Glass Windshields from the People's Republic of China, 69 FR 48197 (August 9, 2004).

Extension of Time Limit for Final Results

Section 751(a)(3)(A) of the Act states that if it is not practicable to complete the review within the time specified, the administering authority may extend the 120-day period, following the date of publication of the preliminary results, to issue its final results by an additional 60 days. Completion of the final results within the 120-day period is not practicable for the following reasons: This review involves certain complex issues which were raised in the briefs after the preliminary results of review including the valuation of water as a separate component of normal value and the appropriate liquidation instruction for Shenzhen CSG Automotive Glass Company, Limited (“Shenzhen CSG”), considering that the Department determined in a changed-circumstances review that Shenzhen CSG is entitled to the same antidumping treatment as Shenzhen Benxun AutoGlass Co., Ltd. See Notice of Final Results of Antidumping Duty Changed Circumstances Review: Automotive Replacement Glass Windshields From the People's Republic of China, 69 FR 43388 (July 20, 2004).

Therefore, in accordance with section 751(a)(3)(A) of the Act, the Department is extending the time period for issuing the final results of review by an additional ten days until no later than

October 14, 2004.

Dated: September 23, 2004.
Jeffrey A. May,
Deputy Assistant Secretary for Import Administration.

[FR Doc. 04-21841 Filed 9-28-04; 8:45 am]

BILLING CODE: 3510-DS-S